DEPARTMENT OF THE INTERIOR

Bureau of Land Management

[MT 060-02-1610-DO]

Upper Missouri River Breaks National Monument

AGENCY: Bureau of Land Management, Interior.

ACTION: Notice of Intent to prepare a Resource Management Plan (RMP) for the Upper Missouri River Breaks National Monument, designated January 17, 2001. This action will require a single Environmental Impact Statement (EIS). The planning area is located in Chouteau, Blaine, Phillips and Fergus Counties. The Monument RMP will be a new management plan and amend a portion of two plans affected by the designation; (1) the West HiLine RMP and (2) Judith-Valley-Phillips RMP.

SUMMARY: This document provides notice that the Bureau of Land Management (BLM) intends to prepare an RMP with an associated EIS for the Upper Missouri River Breaks National Monument. This planning activity encompasses approximately 375,000 acres of public land. The plan will fulfill the needs and obligations set forth by the National Environmental Policy Act (NEPA), the Federal Land Policy and Management Act (FLPMA), the monument proclamation, and BLM management policies. The BLM will work collaboratively with interested parties to identify the management decisions that are best suited to local, regional, and national needs and concerns. The public scoping process will identify planning issues and develop planning criteria, including an evaluation of the West HiLine and Judith-Valley-Phillips RMPs in the context of the needs and interests of the public and protection of the objects of historic and scientific interest specified in the proclamation.

DATES: The publication of this notice will initiate the public scoping comment process which will end after 120 days.Comments on issues and planning criteria can be submitted in writing to the address listed below. All public meetings will be announced through the local news media, newsletter, and the BLM web site (www.mt.blm.gov) at least 15 days prior to the event. The minutes and list of attendees for each meeting will be available to the public and open for 30 days to any participant who wishes to clarify the views they expressed.

Public Participation: Public meetings will be held during the plan scoping and preparation period. In order to ensure local community participation and input, public meeting locations will be in Winifred, Lewistown, Great Falls, Fort Benton, Havre, Chinook, and Malta, Montana. Early participation is encouraged and will help determine the future management of the Upper Missouri River Breaks National Monument public lands. In addition to the ongoing public participation process, formal opportunities for public participation will be provided through comment on the alternatives and upon publication of the BLM draft RMP/EIS. In addition, written comments will be accepted throughout the entire planning process.

ADDRESSES: Written comments should be sent to Gary Slagel, Monument Manager, Bureau of Land Management, Lewistown Field Office, P.O. Box 1160, Lewistown, MT 59457-1160. Documents pertinent to this proposal may be examined at the Lewistown Field Office located in Lewistown, Montana. Comments, including names and street addresses of respondents, will be available for public review at the Lewistown Field Office located in Lewistown, Montana, during regular business hours 7:45 a.m. to 4:30 p.m., Monday through Friday, except holidays, and may be published as part of the EIS. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION: For further information and/or to have your name added to our mailing list, contact Jerry Majerus, Project Manager, 406-538-1924.

SUPPLEMENTARY INFORMATION: The creation of the Upper Missouri River Breaks National Monument, along with the changing needs and interests of the public, necessitates creation of an RMP for the Monument and an amendment to the West HiLine and Judith-Valley-Phillips RMPs to address some decisions affected by the Monument designation. These actions require a single EIS and one Record of Decision (ROD).

Preliminary issues and management concerns have been identified by BLM personnel, other agencies, and in meetings with individuals and user groups. They represent the BLM's knowledge to date on the existing issues and concerns with current management. The major issue themes that will be addressed in the plan effort include, but are not limited to: Management and protection of public land resources; recreation/visitor use, interpretation and safety; integrating monument management with community, tribal, and other agency needs; and access and transportation on the public lands.

After gathering public comments on what issues the plan should address, the suggested issues will be placed in one of three categories:

1. Issues to be resolved in the plan;

2. Issues resolved through policy or administrative action; or

3. Issues beyond the scope of this plan.

Rationale will be provided in the plan for each issue placed in category two or three. In addition to these major issues, a number of management questions and concerns will be addressed in the plan. The public is encouraged to help identify these questions and concerns during the scoping phase.

An interdisciplinary approach will be used to develop the plan in order to consider the variety of resource issues and concerns identified. Disciplines involved in the planning process will include specialists with expertise in rangeland management, minerals and geology, forestry, outdoor recreation, archaeology, paleontology, wildlife and fisheries, lands and realty, hydrology, soils, sociology and economics. Where necessary and available, outside expertise may be sought to help advise BLM.

Background Information: On January 17, 2001, the President signed a Proclamation creating the Upper Missouri River Breaks National Monument. The monument encompasses approximately 375,000 acres of public land located in north-central Montana in Chouteau, Blaine, Phillips and Fergus Counties, Montana. The area generally corresponds with the Upper Missouri National Wild and Scenic River from Fort Benton downstream to approximately Arrow Creek where it begins to widen out from five to sixteen miles on either side of the Missouri River to the Charles M. Russell National Wildlife Refuge.

A portion of the West HiLine RMP was approved in 1988 and the remainder in 1992 and the Judith-Valley-Phillips RMP was completed in 1994. Several multi-discipline plans have recently been completed, including the Two Calf Watershed Plan (1998), Woodhawk Watershed Plan (1998), and Armells Watershed Plan (2000). The Upper Missouri National Wild and Scenic River Management Plan Update was completed in 1993 and the Missouri River Facility Maintenance/Replacement EA was completed in 1997. Information from these existing plans may be incorporated into the Monument RMP.

Elaine Marquis-Brong,
Director, National Landscape Conservation System, Bureau of Land Management.

[FR Doc. 02-9589 Filed 4-23-02; 8:45 am]

BILLING CODE 4310-32-P